DEPARTMENT OF THE TREASURY

Alcohol and Tobacco Tax and Trade Bureau

Proposed Information Collections; Comment Request

AGENCY: Alcohol and Tobacco Tax and Trade Bureau (TTB), Treasury.

ACTION: Notice and request for comments.

SUMMARY: As part of our continuing effort to reduce paperwork and respondent burden, and as required by the Paperwork Reduction Act of 1995, we invite comments on the proposed or continuing information collections listed below in this notice.

DATES: We must receive your written comments on or before August 7, 2006.

ADDRESSES: You may send comments to Mary A. Wood, Alcohol and Tobacco Tax and Trade Bureau, at any of these addresses:

• P.O. Box 14412, Washington, DC 20044-4412;

• 202-927-8525 (facsimile); or

• formcomments@ttb.gov (e-mail).

Please send separate comments for each specific information collection listed below. You must reference the information collection's title, form number, and OMB number (if any) in your comment. If you submit your comment via facsimile, send no more than five 8.5 x 11 inch pages in order to ensure electronic access to our equipment.

FOR FURTHER INFORMATION CONTACT: To obtain additional information, copies of the information collection and its instructions, or copies of any comments received, contact Mary A. Wood, Alcohol and Tobacco Tax and Trade Bureau, P.O. Box 14412, Washington, DC 20044-4412; or telephone 202-927-8210.

SUPPLEMENTARY INFORMATION:

Request for Comments

The Department of the Treasury and its Alcohol and Tobacco Tax and Trade Bureau, as part of their continuing effort to reduce paperwork and respondent burden, invite the general public and other Federal agencies to comment on the proposed and continuing information collections listed below in this notice, as required by the Paperwork Reduction Act of 1995 (44 U.S.C. 3501 et seq.).

Comments submitted in response to this notice will be included or summarized in our request for Office of Management and Budget (OMB) approval of the relevant information collection. All comments are part of the public record and subject to disclosure. Please do not include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collections Open for Comment

Currently, we are seeking comments on the following information collections:

Title: Formula and/or Process for Articles Made with Specially Denatured Spirits.

OMB Number: 1513-0011.

TTB Form Number: 5150.19.

Abstract: TTB F 5150.19 is completed by persons who use specially denatured spirits in the manufacture of certain articles. TTB uses the information provided on the form to insure that a manufacturer's formulas and processes conform to the requirements of 26 U.S.C. 5273.

Current Actions: There are no changes to this information collection, and it is being submitted for extension purposes only.

Type of Review: Extension.

Affected Public: Business or other for-profit.

Estimated Number of Respondents: 2,683.

Estimated Total Annual Burden Hours: 2,415.

Title: User's Report of Denatured Spirits.

OMB Number: 1513-0012.

TTB Form Number: 5150.18.

Abstract: Submitted annual by holders of permits to use specially denatured spirits, TTB F 5150.18 summarizes the permitee's manufacturing activities during the preceding year. The information is used by TTB to pinpoint unusual activities that could indicate a threat to the Federal revenue or possible dangers to the public.

Current Actions: There are no changes to this information collection, and it is being submitted for extension purposes only.

Type of Review: Extension.

Affected Public: Business or other for-profit.

Estimated Number of Respondents: 2,765.

Estimated Total Annual Burden Hours: 830.

Title: Certification of Tax Determination—Wine.

OMB Number: 1513-0029.

TTB Form Number: 5120.20.

Abstract: Wine that has been manufactured, produced, bottled, or packaged in bulk containers in the U.S. and then exported is eligible for a drawback (refund) of the excise tax paid on that wine. TTB F 5120.20 supports the exporter's claim for drawback, as the producing winery verifies that the wine being exported was in fact taxpaid.

Current Actions: There are no changes to this information collection, and it is being submitted for extension purposes only.

Type of Review: Extension.

Affected Public: Business or other for-profit.

Estimated Number of Respondents: 1,000.

Estimated Total Annual Burden Hours: 500.

Title: Application for Transfer of Spirits and/or Denatured Spirits in Bond.

OMB Number: 1513-0038.

TTB Form Number: 5100.16.

Abstract: TTB F 5100.16 is completed by distilled spirits plant proprietors who wish to receive spirits in bond from other distilled spirits plants. TTB uses the information to determine if the applicant has sufficient bond coverage for the additional tax liability assumed when spirits are transferred in bond.

Current Actions: There are no changes to this information collection, and it is being submitted for extension purposes only.

Type of Review: Extension.

Affected Public: Business or other for-profit.

Estimated Number of Respondents: 250.

Estimated Total Annual Burden Hours: 300.

Title: Distilled Spirits Plants Warehousing Record and Reports.

OMB Number: 1513-0039.

TTB Form Number: 5110.11.

TTB Record Number: 5110/02.

Abstract: TTB uses this information collection to account for a proprietor's tax liability, adequacy of bond coverage, and to protect the revenue. The information also provides data to analyze trends, audit operations, monitor industry activities and compliance in order to provide for efficient allocation of field personnel, and to provide for economic analysis.

Current Actions: There are no changes to this information collection, and it is being submitted for extension purposes only.

Type of Review: Extension.

Affected Public: Business or other for-profit.

Estimated Number of Respondents: 230.

Estimated Total Annual Burden Hours: 5,520.

Title: Distilled Spirits Plants—Excise Taxes.

OMB Number: 1513-0045.

TTB Record Number: 5110/06.

Abstract: The collection of information is necessary to account for and verify taxable removals of distilled spirits. The data is used to audit tax payments.

Current Actions: There are no changes to this information collection, and it is being submitted for extension purposes only.

Type of Review: Extension.

Affected Public: Business or other for-profit.

Estimated Number of Respondents: 133.

Estimated Total Annual Burden Hours: 3,458.

Title: Formula for Distilled Spirits Under the Federal Alcohol Administration Act.

OMB Number: 1513-0046.

TTB Form Number: 5110.38.

Abstract: TTB F 5110.38 is used to determine the classification of distilled spirits for labeling and for consumer protection purposes. The form describes the person filing, type of product to be made, and restrictions to the label and/or manufacturing process. The form is used by TTB to ensure that a product is made and labeled properly, and to audit distilled spirits operations. Records are kept indefinitely for this information collection.

Current Actions: There are no changes to this information collection, and it is being submitted for extension purposes only.

Type of Review: Extension.

Affected Public: Business or other for-profit.

Estimated Number of Respondents: 200.

Estimated Total Annual Burden Hours: 4,000.

Title: Distilled Spirits Plant (DSP) Denaturation Records and Reports.

OMB Number: 1513-0049.

TTB Form Number: 5110.43.

TTB Record Number: 5110/04.

Abstract: This information collection is necessary to account for and verify the denaturation of distilled spirits. It is used to audit plant operations, monitor the industry for the efficient allocation of personnel resources, and compile statistics for government economic planning.

Current Actions: There are no changes to this information collection, and it is being submitted for extension purposes only.

Type of Review: Extension.

Affected Public: Business or other for-profit.

Estimated Number of Respondents: 98.

Estimated Total Annual Burden Hours: 1,176.

Title: Alcohol Fuel Plant (AFP) Records, Reports and Notices.

OMB Number: 1513-0052.

TTB Recordkeeping Requirement Number: 5110/10.

TTB Form Number: 5110.75.

Abstract: The data in this information collection is necessary to determine which persons are qualified to produce alcohol for fuel purposes and to identify such persons. The information collection accounts for distilled spirits produced, verifies the spirits proper disposition, keeps registrations current, and helps evaluate permissible variations from prescribed procedures.

Current Actions: There are changes to this information collection, and it is being submitted as a revision of a currently approved collection. Specifically, we are adding a line in each part of the collection to provide for imported spirits/fuel alcohol received from Customs custody.

Type of Review: Revision of a currently approve collection.

Affected Public: Farms, business or other for-profit.

Estimated Number of Respondents: 871.

Estimated Total Annual Burden Hours: 944.

Title: Distilled Spirits Plant (DSP) Transaction and Supporting Records.

OMB Number: 1513-0056.

TTB Record Number: 5110/5.

Abstract: Transaction records provide the source data for accounts of distilled spirits in all DSP operations. They are used by TTB to verify those accounts and consequent tax liabilities.

Current Actions: There are no changes to this information collection, and it is being submitted for extension purposes only.

Type of Review: Extension.

Affected Public: Business or other for-profit.

Estimated Number of Respondents: 278.

Estimated Total Annual Burden Hours: 6,060.

Title: Importer's Records and Reports.

OMB Number: 1513-0064.

TTB Recordkeeping Requirement Number: 5170/1.

Abstract: This recordkeeping requirement concerns the records that must be maintained by the importer. The records are used by TTB to verify that operations are being conducted in compliance with the law and to ensure that all taxes and duties have been paid on imported spirits, thus protecting the revenue. The record retention requirement for this information collection is 3 years.

Current Actions: There are no changes to this information collection, and it is being submitted for extension purposes only.

Type of Review: Extension.

Affected Public: Federal Government.

Estimated Number of Respondents: 500.

Estimated Total Annual Burden Hours: 251.

Title: Tobacco Export Warehouse—Record of Operations.

OMB Number: 1513-0070.

TTB Recordkeeping Requirement Number: 5220/1.

Abstract: Tobacco Export Warehouses store untaxpaid tobacco products until the products are exported. The records are maintained at the premises of the regulated individual and are used by TTB personnel to verify that untaxpaid tobacco products are not being diverted to domestic consumption, thus ensuring that tax revenues are protected. The record retention requirement for this information collection is 3 years.

Current Actions: There are no changes to this information collection, and it is being submitted for extension purposes only.

Type of Review: Extension.

Affected Public: Business or other for-profit.

Estimated Number of Respondents: 221.

Estimated Total Annual Burden Hours: 221.

Title: Applications and Notices—Manufacturers of Nonbeverage Products.

OMB Number: 1513-0072.

TTB Recordkeeping Requirement Number: 5530/1.

Abstract: These reports (Letterhead Applications and Notices) are submitted by manufacturers of nonbeverage products who are using distilled spirits on which drawback will be claimed. These reports are used by TTB's National Revenue Center personnel to ensure that the regulated individuals will conduct operations in compliance with the law and regulations. The applications and notices serve to protect the revenue by helping TTB personnel determine if spirits on which drawback has been claimed have been diverted to beverage use.

Current Actions: There are no changes to this information collection, and it is being submitted for extension purposes only.

Type of Review: Extension.

Affected Public: Business or other for-profit.

Estimated Number of Respondents: 640.

Estimated Total Annual Burden Hours: 640.

Title: Records of Things of Value to Retailers and Occasional Letter Reports from Industry Members Regarding Information on Sponsorships, Advertisements, Promotions, etc., Under the Federal Alcohol Administration Act.

OMB Number: 1513-0077.

TTB Recordkeeping Requirement Number: 5190/1.

Abstract: These records and occasional letter reports are used to show compliance with the provisions of the Federal Alcohol Administration Act, which prohibits wholesalers, producers, or importers from giving things of value to retail liquor dealers, and which also prohibits industry members from conducting certain types of sponsorships, advertising, promotions, etc.

Current Actions: There are no changes to this information collection, and it is being submitted for extension purposes only.

Type of Review: Extension.

Affected Public: Business and other for-profit, individuals, or households.

Estimated Number of Respondents: 12,665.

Estimated Total Annual Burden Hours: 51.

Title: Equipment and Structures.

OMB Number: 1513-0080.

TTB Record Number: 5110/12.

Abstract: Marks, signs, and calibrations are necessary on equipment and structures at a distilled spirits plant in order to identify the plant's major equipment and to accurately determine the plant's contents.

Current Actions: There are no changes to this information collection, and it is being submitted for extension purposes only.

Type of Review: Extension.

Affected Public: Business or other for-profit.

Estimated Number of Respondents: 281.

Estimated Total Annual Burden Hours: 1.

Title: Registration and Records of Vinegar Vaporizing Plants.

OMB Number: 1513-0081.

TTB Record Number: 5110/9.

Abstract: Data is necessary to identify persons producing and using distilled spirits in the manufacture of vinegar and to account for spirits so produced and used. The record retention requirement for this information collection is 3 years.

Current Actions: There are no changes to this information collection, and it is being submitted for extension purposes only.

Type of Review: Extension.

Affected Public: Business or other for-profit, and State, local, or tribal governments.

Estimated Number of Respondents: 1.

Estimated Total Annual Burden Hours: 1.

Title: Methods or Procedures and Emergency Variations from Requirements for Exports of Liquors.

OMB Number: 1513-0082.

TTB Record Number: 5170/7.

Abstract: When an exporter seeks to use an alternate method or procedure or seeks an emergency variation from the regulatory requirements of 27 CFR part 28, such exporter requests a variance by letter, following the procedure in 27 CFR 28.20. TTB uses the provided information to determine if the requested variance is allowed by statute and does not jeopardize the revenue. The applicant is informed of the approval or disapproval of the request. TTB also uses the information to analyze what changes should be made to existing regulations. Records must be maintained only while the applicant is using the authorization.

Current Actions: There are no changes to this information collection, and it is being submitted for extension purposes only.

Type of Review: Extension.

Affected Public: Business or other for-profit.

Estimated Number of Respondents: 500.

Estimated Total Annual Burden Hours: 200.

Title: Labeling of Sulfites in Alcoholic Beverages.

OMB Number: 1513-0084.

Abstract: As mandated by law, and in accordance with our consumer protection responsibilities, TTB requires label disclosure statements on all alcoholic beverage products released from U.S. bottling premises or customs custody that contain 10 parts per million or more of sulfites. Sulfiting agents have been shown to produce allergic-type responses in humans, particularly asthmatics, and the presence of these ingredients in alcohol beverages may have serious health implications for those who are intolerant of sulfites. Disclosure of sulfites on labels of alcohol beverages will minimize their exposure to these ingredients.

Current Actions: There are no changes to this information collection, and it is being submitted for extension purposes only.

Type of Review: Extension.

Affected Public: Business or other for-profit.

Estimated Number of Respondents: 4,787.

Estimated Total Annual Burden Hours: 3,159.

Title: Application for Extension of Time for Payment of Tax.

OMB Number: 1513-0093.

TTB Form Number: 5600.38.

Abstract: TTB uses this information to determine if a taxpayer is qualified to extend payment of tax based on circumstances beyond the taxpayer's control. The record retention requirement for this information collection is 3 years.

Current Actions: There are no changes to this information collection, and it is being submitted for extension purposes only.

Type of Review: Extension.

Affected Public: Business or other for-profit.

Estimated Number of Respondents: 12.

Estimated Total Annual Burden Hours: 3.

Title: Supporting Data for Nonbeverage Drawback Claims.

OMB Number: 1513-0098.

TTB Form Number: 5154.2.

Abstract: The form substantiates nonbeverage drawback claims by documenting the use of taxpaid distilled spirits in the manufacture nonbeverage products. The form is used in TTB's National Revenue Center to verify that all distilled spirits can be accounted for and that drawback is paid only in the amount and for the purposes authorized by law.

Current Actions: There are changes to this information collection, and it is being submitted as a revision of a currently approved collection. Specifically, we are deleting Item 3 (Control Number on Special Tax Stamp) and Item 4 (Tax Year Covered by Special Tax Stamp) since manufacturers of nonbeverage products are no longer required to pay Special Occupational Tax and, as a result, will not receive a tax stamp.

Type of Review: Revision of a currently approved collection.

Affected Public: Business and other for-profit.

Estimated Number of Respondents: 590.

Estimated Total Annual Burden Hours: 3,422.

Title: Recordkeeping Requirements for Importers of Tobacco Products.

OMB Number: 1513-0106.

Abstract: Importers of tobacco products are required to maintain records of physical receipt and disposition of tobacco products in order to prepare TTB F 5220.6, Importers Monthly Report. These receipt and disposition records allow TTB officers to trace tobacco product transactions and to determine that tax liabilities have been accurately determined and discharged by the importer. Federal law, at 26 U.S.C. 5555, authorizes the Secretary of Treasury to prescribe regulations requiring every person liable for tax to prepare any records, statements, or returns as necessary to protect the revenue.

Current Actions: There are no changes to this information collection, and it is being submitted for extension purposes only.

Type of Review: Extension.

Affected Public: Business or other for-profit.

Estimated Number of Respondents: 1,500.

Estimated Total Annual Burden Hours: 18,000.

Dated: June 2, 2006.
Francis W. Foote,
Director, Regulations and Rulings Division.

[FR Doc. E6-8856 Filed 6-7-06; 8:45 am]

BILLING CODE 8856-31-P